DEPARTMENT OF ENERGY

Federal Energy Regulatory Commission

Combined Notice of Filings #2

Take notice that the Commission has received the following Natural Gas Pipeline Rate and Refund Report filings:

Filings Instituting Proceedings

Docket Numbers: RP22-441-000.

Applicants: Transcontinental Gas Pipe Line Company, LLC.

Description: § 4(d) Rate Filing: Cash Out Surcharge True-Up Filing to be effective 2/1/2022.

Filed Date: 12/30/21.

Accession Number: 20211230-5055.

Comment Date: 5 p.m. ET 1/11/22.

Docket Numbers: RP22-442-000.

Applicants: Florida Gas Transmission Company, LLC.

Description: Compliance filing: Annual Accounting Report on 12-30-21 to be effective N/A.

Filed Date: 12/30/21.

Accession Number: 20211230-5067.

Comment Date: 5 p.m. ET 1/11/22.

Docket Numbers: RP22-443-000.

Applicants: Southwest Gas Storage Company.

Description: § 4(d) Rate Filing: Add New Services at Market Based Rates to be effective 2/1/2022.

Filed Date: 12/30/21.

Accession Number: 20211230-5074.

Comment Date: 5 p.m. ET 1/11/22.

Docket Numbers: RP22-444-000.

Applicants: El Paso Natural Gas Company, L.L.C.

Description: § 4(d) Rate Filing: Negotiated Rate Agreements Filing (Hartree and ETC Marketing) to be effective 1/1/2022.

Filed Date: 12/30/21.

Accession Number: 20211230-5077.

Comment Date: 5 p.m. ET 1/11/22.

Docket Numbers: RP22-445-000.

Applicants: El Paso Natural Gas Company, L.L.C.

Description: § 4(d) Rate Filing: Negotiated Rate Agreement Update (SoCal Jan-Mar 2022) to be effective 1/1/2022.

Filed Date: 12/30/21.

Accession Number: 20211230-5078.

Comment Date: 5 p.m. ET 1/11/22.

Docket Numbers: RP22-446-000.

Applicants: Gulf South Pipeline Company, LLC.

Description: § 4(d) Rate Filing: Cap Rel Neg Rate Agmts (Atlanta Gas 8438 to various eff 1-1-2022) to be effective 1/1/2022.

Filed Date: 12/30/21.

Accession Number: 20211230-5089.

Comment Date: 5 p.m. ET 1/11/22.

Docket Numbers: RP22-447-000.

Applicants: Gulf South Pipeline Company, LLC.

Description: § 4(d) Rate Filing: Cap Rel Neg Rate Agmts (Marathon releases eff 1-1-2022) to be effective 1/1/2022.

Filed Date: 12/30/21.

Accession Number: 20211230-5090.

Comment Date: 5 p.m. ET 1/11/22.

Docket Numbers: RP22-448-000.

Applicants: Gulf South Pipeline Company, LLC.

Description: § 4(d) Rate Filing: Cap Rel Neg Rate Agmt (Constellation re-release to Exelon eff 1-1-2022) to be effective 1/1/2022.

Filed Date: 12/30/21.

Accession Number: 20211230-5096.

Comment Date: 5 p.m. ET 1/11/22.

Docket Numbers: RP22-449-000.

Applicants: Columbia Gas Transmission, LLC.

Description: Compliance filing: Penalty Revenue Crediting Report 2021 to be effective N/A.

Filed Date: 12/30/21.

Accession Number: 20211230-5138.

Comment Date: 5 p.m. ET 1/11/22.

Docket Numbers: RP22-450-000.

Applicants: Columbia Gulf Transmission, LLC.

Description: Compliance filing: Penalty Revenue Crediting Report 2021 to be effective N/A.

Filed Date: 12/30/21.

Accession Number: 20211230-5140.

Comment Date: 5 p.m. ET 1/11/22.

Docket Numbers: RP22-451-000.

Applicants: Crossroads Pipeline Company.

Description: Compliance filing: Penalty Revenue Crediting Report 2021 to be effective N/A.

Filed Date: 12/30/21.

Accession Number: 20211230-5141.

Comment Date: 5 p.m. ET 1/11/22.

Docket Numbers: RP22-452-000.

Applicants: Millennium Pipeline Company, LLC.

Description: Compliance filing: Penalty Revenue Crediting Report 2021 to be effective N/A.

Filed Date: 12/30/21.

Accession Number: 20211230-5144.

Comment Date: 5 p.m. ET 1/11/22.

Docket Numbers: RP22-453-000.

Applicants: ANR Pipeline Company.

Description: § 4(d) Rate Filing: ANR—Concord 136933 & Freepoint 136932 Negotiated Rate Agreement to be effective 1/1/2022.

Filed Date: 12/30/21.

Accession Number: 20211230-5146.

Comment Date: 5 p.m. ET 1/11/22.

Docket Numbers: RP22-454-000.

Applicants: Rockies Express Pipeline LLC.

Description: § 4(d) Rate Filing: REX 2021-12-30 Negotiated Rate Agreement Amendment to be effective 1/1/2022.

Filed Date: 12/30/21.

Accession Number: 20211230-5156.

Comment Date: 5 p.m. ET 1/11/22.

Docket Numbers: RP22-455-000.

Applicants: Tallgrass Interstate Gas Transmission, LLC.

Description: § 4(d) Rate Filing: TIGT 2021-12-30 Definition and Service Request Revisions to be effective 2/1/2022.

Filed Date: 12/30/21.

Accession Number: 20211230-5160.

Comment Date: 5 p.m. ET 1/11/22.

Docket Numbers: RP22-456-000.

Applicants: Trailblazer Pipeline Company LLC.

Description: § 4(d) Rate Filing: TPC 2021-12-30 Definition and Service Request Revisions to be effective 2/1/2022.

Filed Date: 12/30/21.

Accession Number: 20211230-5161.

Comment Date: 5 p.m. ET 1/11/22.

Docket Numbers: RP22-457-000.

Applicants: Roaring Fork Interstate Gas Transmission, LLC.

Description: Compliance filing: Baseline Tariff in Compliance with Docket Nos. CP21-462 to be effective 3/31/2022.

Filed Date: 12/30/21.

Accession Number: 20211230-5167.

Comment Date: 5 p.m. ET 1/11/22.

Docket Numbers: RP22-458-000.

Applicants: WBI Energy Transmission, Inc.

Description: § 4(d) Rate Filing: 2021 Add Line Section 32 for NBE to be effective 2/1/2022.

Filed Date: 12/30/21.

Accession Number: 20211230-5174.

Comment Date: 5 p.m. ET 1/11/22.

Docket Numbers: RP22-459-000.

Applicants: WBI Energy Transmission, Inc.

Description: Compliance filing: 2021 Compliance Filing for North Bakken Expansion to be effective 2/1/2022.

Filed Date: 12/30/21.

Accession Number: 20211230-5178.

Comment Date: 5 p.m. ET 1/11/22.

Docket Numbers: RP22-460-000.

Applicants: WBI Energy Transmission, Inc.

Description: § 4(d) Rate Filing: 2021 North Bakken Service Agreements to be effective 2/1/2022.

Filed Date: 12/30/21.

Accession Number: 20211230-5182.

Comment Date: 5 p.m. ET 1/11/22.

Docket Numbers: RP22-461-000.

Applicants: Transcontinental Gas Pipe Line Company, LLC.

Description: § 4(d) Rate Filing: Negotiated Rates—Cherokee AGL—Replacement Shippers—Jan 2022 to be effective 1/1/2022.

Filed Date: 12/30/21.

Accession Number: 20211230-5220.

Comment Date: 5 p.m. ET 1/11/22.

Docket Numbers: RP22-462-000.

Applicants: Double E Pipeline, LLC.

Description: § 4(d) Rate Filing: Negotiated Rate & Non-Conforming Agreement—Marathon Permian to be effective 1/1/2022.

Filed Date: 12/30/21.

Accession Number: 20211230-5225.

Comment Date: 5 p.m. ET 1/11/22.

Docket Numbers: RP22-463-000.

Applicants: Northern Natural Gas Company.

Description: § 4(d) Rate Filing: 20211230 Negotiated Rate to be effective 1/1/2022.

Filed Date: 12/30/21.

Accession Number: 20211230-5250.

Comment Date: 5 p.m. ET 1/11/22.

Docket Numbers: RP22-464-000.

Applicants: Southern Star Central Gas Pipeline, Inc.

Description: § 4(d) Rate Filing: Vol. 2—Negotiated Rate Agreements—Scout Energy Group and Concord Energy to be effective 1/1/2022.

Filed Date: 1/3/22.

Accession Number: 20220103-5004.

Comment Date: 5 p.m. ET 1/18/22.

Docket Numbers: RP22-465-000.

Applicants: LA Storage, LLC.

Description: § 4(d) Rate Filing: Filing of Negotiated Rate, Conforming IW Agreements 1.1.22 to be effective 1/1/2022.

Filed Date: 1/3/22.

Accession Number: 20220103-5005.

Comment Date: 5 p.m. ET 1/18/22.

Docket Numbers: RP22-466-000.

Applicants: Texas Eastern Transmission, LP.

Description: § 4(d) Rate Filing: TETLP EPC FEB 2022 FILING to be effective 2/1/2022.

Filed Date: 1/3/22.

Accession Number: 20220103-5006.

Comment Date: 5 p.m. ET 1/18/22.

Docket Numbers: RP22-472-000.

Applicants: Interstate Gas Supply, Inc., Dominion Energy Solutions, Inc.

Description: Joint Petition for Limited Waiver of Capacity Release Regulations, et al. of Interstate Gas Supply, Inc., et al.

Filed Date: 1/3/22.

Accession Number: 20220103-5212.

Comment Date: 5 p.m. ET 1/18/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-1241-000.

Applicants: Dominion Energy Cove Point LNG, LP.

Description: Refund Report: Cove Point LNG, LP submits tariff filing per 154.501: Cove Point—PVIC Report of Refunds to be effective N/A.

Filed Date: 12/30/21.

Accession Number: 20211230-5061.

Comment Date: 5 p.m. ET 1/11/22.

Docket Numbers: RP22-454-001.

Applicants: Rockies Express Pipeline LLC.

Description: Tariff Amendment: REX 2020-01-03 RP22-454 Amendment to be effective 1/1/2022.

Filed Date: 1/3/22.

Accession Number: 20220103-5075.

Comment Date: 5 p.m. ET 1/18/22.

Docket Numbers: RP22-457-001.

Applicants: Roaring Fork Interstate Gas Transmission, LLC.

Description: Compliance filing: Amendment to Statement of Negotiated Rates to be effective 3/31/2022.

Filed Date: 12/30/21.

Accession Number: 20211230-5187.

Comment Date: 5 p.m. ET 1/11/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

Dated: January 4, 2022.
Debbie-Anne A. Reese,
Deputy Secretary.

[FR Doc. 2022-00194 Filed 1-7-22; 8:45 am]

BILLING CODE 6717-01-P